DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Survey of Revenues and Expenditures (SRE)—NEW

The Substance Abuse and Mental Health Services Administration's (SAMHSA) Center for Mental Health Services (CMHS) will conduct the SRE. This national survey represents a survey of mental health and substance abuse treatment facilities. These separate service locations are called facilities, in contrast to mental health and substance abuse organizations, which may include multiple facilities (service locations). This survey will be a sample survey of all known mental health and substance abuse treatment facilities nationwide with a particular focus on revenues and expenditures. The survey will begin with a stratified random sample of 1,500 facilities drawn from other SAMHSA databases. In addition, a control subsample of 100 facilities drawn from the original 1,500 will be drawn and pursued beyond the planned three follow-up attempts with the entire sample. The control sample will provide estimates of non-response bias upon the results of the data analyses.

The SRE will utilize one questionnaire for all mental health and substance abuse treatment facility types including hospitals, residential treatment centers and outpatient clinics. The information collected will include annual revenue and expenditures, staffing, and active caseload size. All treatment facilities will have the option of completing the survey instrument online via the internet, by telephone with an interviewer, or using a paper version of the questionnaire.

The resulting database will be used for national estimates of facility types, their revenues and expenditures, and their patient caseloads. These findings will be used to update SAMHSA's national spending on mental health and substance abuse treatment estimates. The survey results will be published by CMHS in Data Highlights, in Mental Health, United States, and in professional journals such as Psychiatric Services and the American Journal of Psychiatry. The publication Mental Health, United States is used by the general public, State governments, the U.S. Congress, university researchers, and other health care professionals. The following Table summarizes the estimated response burden for the survey.

| Number of respondents | Responses per respondent | Average hours per response | Total hour burden
Treatment Facilities | 1,500 | 1 | 2.5 | 3,750

Written comments and recommendations concerning the proposed information collection should be sent by January 14, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: December 9, 2009.
Elaine Parry,
Director, Office of Program Services.

[FR Doc. E9-29767 Filed 12-14-09; 8:45 am]

BILLING CODE 4162-20-P